ENVIRONMENTAL PROTECTION AGENCY

[ER-FRL-8582-9]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at 202-564-7167.

An explanation of the ratings assigned to draft environmental impact statements (EISs) was published in FR dated April 11, 2008 (73 FR 19833).

Draft EISs

EIS No. 20070299, ERP No. D-AFS-J65488-WY, Battle Park Cattle and Horse (C&H) and Mistymoon Sheep and Goat (S&G) Allotment Project, Proposes to Continue Livestock Grazing on both Allotments, Powder River District Ranger, Bighorn National Forest, Bighorn County, WY.

Summary: EPA expressed environmental concerns about impacts to soil and water resources, and recommended including more information on water quality, current extent of invasive species, and drought mitigation planning. Rating EC2.

EIS No. 20080015, ERP No. D-BLM-J65505-WY, Westside Land Conveyance Project, Congressionally-Mandated Transfer of 16,500 Acres of Public Land to the Westside Irrigation District, Big Horn and Washakie Counties, WY.

Summary: EPA expressed environmental concerns about water quality impacts from crop production on newly irrigated lands. The final EIS should include measures to avoid or mitigate impacts to the Big Horn River. Rating EC2.

EIS No. 20080092, ERP No. D-BIA-J01082-MT, Absaloka Mine Crow Reservation South Extension Coal Lease Approval, Proposed Mine Development Plan, and Related Federal and State Permitting Actions, Crow Indian Reservation, Crow Tribe, Bighorn County, MT.

Summary: EPA expressed environmental concerns about impacts to ground and surface water and cumulative air impacts. Rating EC2.

EIS No. 20080119, ERP No. D-USN-K10011-CA, Southern California Range Complex, To Organize, Train, Equip, and Maintain Combat-Ready Naval Forces, San Diego, Orange and Los Angeles Counties, CA.

Summary: EPA expressed environmental concerns about impacts to marine resources. Rating EC2.

EIS No. 20080133, ERP No. D-NPS-G65108-TX, Guadalupe Mountains National Park, General Management Plan, Implementation, Culberson and Hudspeth Counties, TX.

Summary: EPA does not object to the preferred alternative. Rating LO.

Final EISs

EIS No. 20080140, ERP No. F-DOI-J39030-UT, Lower Duchesne River Wetlands Mitigation Project (LDWP), Restoration Measures in the Lower Duchesne River Area, Strawberry Aqueduct and Collection System (SACS) on portion of the Strawberry Reservoir, Implementation, Ute Indian Tribe, NPDES and U.S. Army COE section 404 Permits, Duchesne, Utah, Uintah Counties, UT.

Summary: No formal comment letter was sent to the preparing agency.

EIS No. 20080145, ERP No. F-FRC-F03011-00, Rockies Express Pipeline Project, (REX-East), Construction and Operation of Natural Gas Pipeline Facilities, WY, NE, MO, IL, IN and OH.

Summary: EPA continues to have environmental concerns about impacts to surface/ground water, wetlands, air quality, and upland forest habitat, and recommends additional mitigation plans/measures be included in the ROD or equivalent FERC order.

EIS No. 20080152, ERP No. F-FRC-E05103-NC, Yadkin—Yadkin-Pee Dee Hydro Electric Project (Docket Nos. P-2197-073 & P-2206-030), Issuance of New Licenses for the Existing and Proposed Hydropower Projects, Yadkin—Yadkin-Pee Dee Rivers, Davidson, Davie, Montgomery, Rowan, Stanly, Anson and Richmond Counties, NC.

Summary: EPA's previous concerns have been resolved; therefore, EPA does not object to the proposed action.

EIS No. 20080178, ERP No. F-AFS-J65486-UT, Big Creek Vegetation Treatment Project, Preferred Alternative is 1, To Treat 4,800 Acres of Aspen Conifer and Sagebrush Communities, Ogden Ranger District, Wasatch-Cache National Forest, Rich County, UT.

Summary: No formal comment letter was sent to the preparing agency.

EIS No. 20080151, ERP No. FA-AFS-K65286-CA, Watdog Project, Additional Clarification of Changes Between the Final EIS (2005) and Final Supplement EIS (2007), Feather River Ranger District, Plumas National Forest, Butte and Plumas Counties, CA.

Summary: EPA continues to have environmental concerns about cumulative impacts to watersheds and short-term impacts to old-forest species, and recommends a less-intensive harvest alternative.

EIS No. 20080173, ERP No. FS-FTA-G40190-TX, North Corridor Fixed Guideway Project, Updated/Additional Information on the Locally Preferred Alternative, Propose Transit Improvements from University of Houston (UH)-Downtown Station to Northline Mall, Harris County, TX.

Summary: No formal comment letter was sent to the preparing agency.

EIS No. 20080179, ERP No. FS-FTA-G40191-TX, Southeast Corridor Project, Preferred Alternative is the Light Rail Alternative, Proposed Fixed-Guideway Transit System, Funding, Metropolitan Transit Authority (METRO) of Harris County, Houston, Harris County, TX.

Summary: No formal comment letter was sent to the preparing agency.

Dated: June 17, 2008.
Robert W. Hargrove,
Director, NEPA Compliance Division, Office of Federal Activities.

[FR Doc. E8-14004 Filed 6-19-08; 8:45 am]

BILLING CODE 6560-50-P